DEPARTMENT OF LABOR

Employment and Training Administration

[TA-W-72,554]

General Motors Company, Pontiac Assembly; Pontiac, MI; Notice of Negative Determination on Reconsideration

On October 7, 2010, the Department of Labor (Department) issued an Affirmative Determination Regarding Application for Reconsideration for the workers and former workers of General Motors Company, Pontiac Assembly, Pontiac, Michigan (GM-Pontiac). The Department's Notice of determination was published in the Federal Register on October 25, 2010 (75 FR 65513). Workers at GM-Pontiac are engaged in employment related to the production of the GMC Sierra and Chevrolet Silverado vehicles.

Pursuant to 29 CFR 90.18(c), reconsideration may be granted under the following circumstances:

(1) If it appears on the basis of facts not previously considered that the determination complained of was erroneous;

(2) if it appears that the determination complained of was based on a mistake in the determination of facts not previously considered; or

(3) If in the opinion of the Certifying Officer, a mis-interpretation of facts or of the law justified reconsideration of the decision.

The initial investigation resulted in a negative determination based on the finding that there was no increase in imports by the subject firm or its customers or a shift to/acquisition from a foreign country by the workers' firm of articles like or directly competitive with the automobiles produced by the workers. The investigation also revealed that the workers did not produce a component part that was used by a firm that both employed workers eligible to apply for Trade Adjustment Assistance and directly incorporated the component parts into the article that was the basis for the TAA certification.

In the request for reconsideration, the International Union of United Automobile, Aerospace, and Agricultural Implement Workers of America (UAW) stated that production of standard cab and extended cab GMC Sierra and Chevrolet Silverado vehicles shifted to an affiliated GM facility in Mexico (“Pontiac Assembly ceased producing * * * production from Pontiac * * * shifted, at least in part, to Silao, Mexico.”

Information obtained during the reconsideration investigation confirmed that the subject firm did not shift to/acquire from an affiliated facility in Mexico or any other foreign country the production of standard cab and extended cab GMC Sierra and Chevrolet Silverado vehicles (or like or directly competitive articles). The company official also confirmed that production of the aforementioned vehicles was shifted to affiliated locations within the United States.

Conclusion

After reconsideration, I affirm the original notice of negative determination of eligibility to apply for worker adjustment assistance for workers and former workers of General Motors, Pontiac Assembly, Pontiac, Michigan.

Signed in Washington, DC, on this 4th day of February, 2011.
Del Min Amy Chen,
Certifying Officer, Office of Trade Adjustment Assistance.

[FR Doc. 2011-4093 Filed 2-23-11; 8:45 am]

BILLING CODE 4510-FN-P